DEPARTMENT OF COMMERCE

National Oceanic and Atmospheric Administration

50 CFR Part 635

RIN 0648-AU89

Atlantic Highly Migratory Species; Atlantic Shark Management Measures; Amendment 2 to the Consolidated Highly Migratory Species Fishery Management Plan

AGENCY: National Marine Fisheries Service (NMFS), National Oceanic and Atmospheric Administration (NOAA), Commerce.

ACTION: Proposed rule; extension of comment period.

SUMMARY: Due to public, Regional Fishery Management Council, and Atlantic States Marine Fisheries Commission requests, NMFS is extending the comment period to provide additional opportunity for public comment on the draft Amendment 2 to the Consolidated Highly Migratory Species (HMS) Fishery Management Plan (FMP) and its proposed rule. NMFS is extending the comment period until November 2, 2007. The original comment period was scheduled to conclude on October 10, 2007. The draft Amendment 2 to the Consolidated HMS FMP and its proposed rule describe a range of management measures that could impact fishermen and dealers for HMS fisheries.

DATES: The deadline for receiving written comments on the July 27, 2007 (72 FR 41392), proposed rule and the draft Amendment 2 to the Consolidated HMS FMP is extended from October 10, 2007, to 5 p.m. on November 2, 2007.

ADDRESSES: You may submit comments, identified by 0648-AU89, by any one of the following methods:

• Electronic Submissions: Submit all electronic public comments via the Federal eRulemaking Portal http://www.regulations.gov or by email to ShkA2@noaa.gov. Please write in the subject line “Comment on Amendment 2.”

• Fax: 301-713-1917, Attn: Michael Clark

• Mail: Attn: Michael Clark, 1315 East-West Highway, Silver Spring, MD 20910. Please mark the outside of the envelope “Comment on Amendment 2.”

INSTRUCTIONS: All comments received are part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

Copies of the draft Amendment 2 to the Consolidated HMS FMP and other relevant documents are available on the HMS Management Division's website at www.nmfs.noaa.gov/sfa/hms or by contacting HMS at 301-713-2347.

FOR FURTHER INFORMATION CONTACT: For more information concerning the draft Amendment 2 to the Consolidated HMS FMP and its proposed rule, contact: Michael Clark at 301-713-2347 or fax 301-713-1917; or Jackie Wilson at 240-338-3936 or fax 404-806-9188.

SUPPLEMENTARY INFORMATION: The Atlantic HMS fisheries are managed under the dual authority of the Magnuson-Stevens Fishery Conservation and Management Act (Magnuson-Stevens Act) and the Atlantic Tunas Convention Act (ATCA). The Consolidated HMS FMP, finalized in 2006, and amendments to that FMP are implemented by regulations at 50 CFR part 635.

On July 27, 2007 (72 FR 41392), NMFS published a proposed rule that requested comments on the draft Amendment 2 to the Consolidated HMS FMP, and scheduled 10 public hearings throughout August and September 2007 to receive comments from fishery participants and other members of the public regarding the proposed rule and draft Amendment 2 to the Consolidated HMS FMP. NMFS has since received many requests to extend the comment period in order to allow for more adequate comment submissions. In order to accommodate these requests and to provide additional opportunities for public comment by constituents, NMFS is extending the public comment period on the proposed rule and draft Amendment 2 to the Consolidated HMS FMP to 5 p.m., November 2, 2007.

Authority: 5 U.S.C. 561 and 16 U.S.C. 1801 et seq.

Dated: September 28, 2007.
Samuel D. Rauch III,
Deputy Assistant Administrator for Regulatory Programs, National Marine Fisheries Service.

[FR Doc. E7-19544 Filed 10-2-07; 8:45 am]

BILLING CODE 3510-22-S